DEPARTMENT OF JUSTICE

Notice of Lodging of Consent Decree Pursuant to the Comprehensive Environmental Response, Compensation and Liability Act

Notice is hereby given that on August 23, 2006 a proposed Consent Decree in United States v. Mallinckrodt et. al, Civil Action No. 4:02CV1488, was lodged with the United States District Court for the Eastern District of Missouri. In this action the United States sought recovery of response costs incurred by the Environmental Protection Agency at the Great Lakes Container Corporation Superfund Site located in St. Louis, Missouri. The Consent Decree requires Defendant Shell Oil Company to reimburse the United States $228,630.00 in response costs.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Mallinckrodt, et. al. D.J. Ref. 90-11-3-07280. The Consent Decree may be examined at the Office of the United States Attorney, Thomas F. Eagleton U.S. Courthouse, 111 South 10th Street, 20th Floor, St. Louis, MO 63102, and at U.S. EPA Region VII, 901 North 5th Street, Kansas City, Kansas 66025. During the public comment period, the Consent Decree may also be examined on the following Department of Justice Web site, to http://www/usdoj.gov/enrd/Consent_Decree.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (without attachments) or $5.75 (with attachments) for United States v. Mallinckrodt, et al. (25 cents per page reproduction cost) payable to the U.S. Treasury.

Bruce Gelber,
Section Chief, Environmental Enforcement Section, Environment and Natural Resources Division.

[FR Doc. 06-7295 Filed 8-30-06; 8:45 am]

BILLING CODE 4410-15-M